SUSQUEHANNA RIVER BASIN COMMISSION

General Permit Notice

AGENCY: Susquehanna River Basin Commission.

ACTION: Notice.

SUMMARY: This notice lists General Permits approved by the Susquehanna River Basin Commission during the period set forth in DATES.

DATES: November 1-30, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax (717) 238-2436; email: joyler@srbc.gov. Regular mail inquiries may be sent to the above address.

SUPPLEMENTARY INFORMATION: This notice lists General Permits for projects, described below, pursuant to 18 CFR 806.17(c)(4), for the time period specified above.

1. Pennsylvania Fish & Boat Commission—Spring Creek Sportsmen Association, General Permit Approval of Coverage No. GP-03-202511016, Cass Township, Huntingdon County, Pa.; Cooperative Fish Nursery withdrawal approved up to 0.375 mgd (peak day) from Roaring Run; Approval Date: November 19, 2025.

2. Pennsylvania Fish & Boat Commission—PA Wildlife Habitat Unlimited, General Permit Approval of Coverage No. GP-03-202511017, Huston Township, Clearfield County, Pa.; Cooperative Fish Nursery withdrawal approved up to 0.288 mgd (peak day) from unnamed tributary to Mountain Lick Creek and 0.288 mgd (peak day) from Mountain Lick Creek; Approval Date: November 25, 2025.

Authority: Public Law 91-575, 84 Stat. 1509 et seq.,18 CFR parts 806 and 808.

Dated: December 4, 2025.
Jason E. Oyler,
General Counsel and Secretary to the Commission.

[FR Doc. 2025-22255 Filed 12-5-25; 8:45 am]

BILLING CODE 7040-01-P